DEPARTMENT OF THE INTERIOR

National Park Service

Notice of Intent To Prepare a General Management Plan and Environmental Impact Statement.

AGENCY: National Park Service, Interior.

ACTION: Notice.

SUMMARY: Pursuant to section 102(2)(C) of the National Environmental Policy Act of 1969, the National Park Service announces its intent to prepare a General Management Plan and Environmental Impact Statement (GMP/EIS) for the Flight 93 National Memorial, Pennsylvania. Prepared by planners at the Flight 93 National Memorial, with assistance from the NPS Northeast Region, the Flight 93 Advisory Commission, the Flight 93 Memorial Task Force, the Families of Flight 93, Inc., advisors, and consultants, the GMP/EIS will propose a long-term approach to managing the Flight 93 National Memorial. Consistent with the memorial's mission, NPS policy, and other laws and regulations, alternatives will be developed to guide the management of the memorial over the next 15 to 20 years. The alternatives will incorporate various zoning, design, and management prescriptions to ensure resource preservation and public enjoyment of the memorial. The environmental consequences that could result from implementing the various alternatives will be evaluated in the plan. Impact topics will include cultural and natural resources, visitor experience, park operations, the socioeconomic environment, impairment, and sustainability. The public will be invited to express concerns about the management and design of the memorial early in the process through public meetings and other media; and will have an opportunity to review and comment on a draft GMP/EIS. Following public review processes outlined under NEPA, the final plan will become official, authorizing implementation of a preferred alternative. The target date for the Record of Decision is September 2005.

Scoping: The National Park Service issued a project scoping newsletter on September 11, 2003 to solicit comments from interested parties; to identify known resources and issues of special concern; and to offer recommendations for the design, construction, and long-term management of the Flight 93 National Memorial. The newsletter and comment form may be obtained at http://www.flight93memorialproject.org or by contacting the project manager. An agency scoping meeting is scheduled for December 15, 2003 from 10 a.m.-12 p.m. at the National Park Service project office, 109 West Main Street, Suite 104, Somerset, PA 15501.

Persons interested in submitting written comments may do so via mail, hand-delivery, facsimile or e-mail to Jeffrey P. Reinbold, Flight 93 NM Project Manager, at the following address:

Jeffrey P. Reinbold, Project Manager, National Park Service, 109 West Main Street, Suite 104, Somerset, PA 15501, Facsimile: (814) 443-2180, E-Mail: jeff_reinbold@nps.gov.

DATES: The National Park Service will accept scoping comments from the public until January 9, 2004.

FOR FURTHER INFORMATION CONTACT: Jeffrey P. Reinbold, National Park Service, 109 West Main Street, Suite 104, Somerset, PA 15501; telephone: (814) 443-4557; e-mail: jeff_reinbold@nps.gov.

Dated: November 20, 2003.
Joanne M. Hanley,
Superintendent, Flight 93 National Memorial.

[FR Doc. 03-30563 Filed 12-9-03; 8:45 am]

BILLING CODE 4310-25-P